DEPARTMENT OF HOMELAND SECURITY

6 CFR Chapter I

[DHS 2008-0076]

RIN 1601-AA52

Secure Handling of Ammonium Nitrate Program

AGENCY: National Protection and Programs Directorate, Department of Homeland Security.

ACTION: Advance Notice of Proposed Rulemaking; correction.

SUMMARY: The Department of Homeland Security published an Advance Notice of Proposed Rulemaking in the Federal Register of October 29, 2008. That document contained an omission; specifically, it did not include “DHS” in the reference to the docket number.

FOR FURTHER INFORMATION CONTACT: Dennis Deziel, Office of Infrastructure Protection, Infrastructure Security Compliance Division, Mail Stop 8100, Washington, DC 20528, telephone number (703) 235-5263.

Correction

In the Federal Register of October 29, 2008, in FR Doc. E8-25821, on page 64280, in the first column, correct the ADDRESSES section to read:

ADDRESSES: You may submit comments, identified by docket number DHS 2008-0076, by one of the following methods:

• Federal eRulemaking Portal: http://www.regulations.gov. Follow the instructions for submitting comments.

• Mail: U.S. Department of Homeland Security, National Protection and Programs Directorate, Office of Infrastructure Protection, Infrastructure Security Compliance Division, Mail Stop 8100, Washington, DC 20528.

Mary Kate Whalen,
Associate General Counsel for Regulatory Affairs.

[FR Doc. E8-26294 Filed 11-4-08; 8:45 am]

BILLING CODE 4410-10-P